DEPARTMENT OF THE INTERIOR

U.S. Geological Survey

[GX.16.GG00.99600.00]

Agency Information Collection Activities: Comment Request

AGENCY: U.S. Geological Survey (USGS), Interior.

ACTION: Notice of an extension of an information collection (1028-0051).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on April 30, 2016.

DATES: You must submit comments on or before January 4, 2016.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-0051, Earthquake Hazards Program Research and Monitoring' in all correspondence.

FOR FURTHER INFORMATION CONTACT: Elizabeth Lemersal, Earthquake Hazards Program, U.S. Geological Survey, 12201 Sunrise Valley Drive, Mail Stop 905, Reston, VA 20192 (mail); 703-648-6716 (phone); or Lemersal@usgs.gov (email). You may also find information about this ICR at www.reginfo.gov.

SUPPLEMENTARY INFORMATION:

I. Abstract

Research and monitoring findings are essential to fulfilling USGS's responsibility under the Earthquake Hazards Reduction Act to develop earthquake hazard assessments and recording earthquake activity nationwide. Residents, emergency responders, and engineers rely on the USGS for this accurate and scientifically sound information. The Earthquake Hazards Program funds external investigators to carry out these important activities. In response to our Program Announcements investigators submit proposals for research and monitoring activities on earthquake hazard assessments, earthquake causes and effects, and earthquake monitoring. This information is used as the basis for selection and award of projects meeting the USGS's Earthquake Hazards Program objectives. Final reports of research and monitoring findings are required for each funded proposal; annual progress reports are required for awards of a two- to five-year duration. Final reports are made available to the public at the Web site http://earthquake.usgs.gov/research/external/.

II. Data

OMB Control Number: 1028-0051.

Form Number: N/A.

Title: Earthquake Hazards Program Research and Monitoring.

Type of Request: Extension of a currently approved collection.

Affected Public: Research scientists, engineers, and the general public.

Respondent's Obligation: None. Participation is voluntary, but necessary to receive benefits.

Frequency of Collection: Annually and once every three to five years.

Estimated Total Number of Annual Responses: 370 (250 applications and narratives and 120 annual and final reports).

Estimated Time per Response: 45 hours per proposal application response and 9 hours per final or annual progress report.

Estimated Annual Burden Hours: 12,330 (11,250 hours per application and 1,080 hours per final or annual progress report).

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

William Leith,
Senior Science Advisor for Earthquake and Geologic Hazards.

[FR Doc. 2015-28236 Filed 11-4-15; 8:45 am]

BILLING CODE 4338-11-P